INTERNATIONAL TRADE COMMISSION

[Investigation No. 701-TA-501 (Review)]

Chlorinated Isocyanurates From China

Determination

On the basis of the record ¹ developed in the subject five-year review, the United States International Trade Commission (“Commission”) determines, pursuant to the Tariff Act of 1930 (“the Act”), that revocation of the countervailing duty order on chlorinated isocyanurates from China would be likely to lead to continuation or recurrence of material injury to an industry in the United States within a reasonably foreseeable time.²

¹ The record is defined in sec. 207.2(f) of the Commission's Rules of Practice and Procedure (19 CFR 207.2(f)).

² Commissioner Jason E. Kearns not participating.

Background

The Commission instituted this review on October 1, 2019 (84 FR 52132) and determined on January 6, 2020 that it would conduct an expedited review (85 FR 14704, March 13, 2020).

The Commission made this determination pursuant to section 751(c) of the Act (19 U.S.C. 1675(c)). It completed and filed its determination in this review on April 20, 2020. The views of the Commission are contained in USITC Publication 5044 (April 2020), entitled Chlorinated Isocyanurates from China: Investigation No. 701-TA-501 (Review).

By order of the Commission.
Issued: April 20, 2020.
William Bishop,
Supervisory Hearings and Information Officer.

[FR Doc. 2020-08690 Filed 4-23-20; 8:45 am]

BILLING CODE 7020-02-P